DEPARTMENT OF COMMERCE

National Oceanic and Atmospheric Administration

Evaluation of Padilla Bay National Estuarine Research Reserve; Notice of Public Meeting; Request for Comments

AGENCY: Office for Coastal Management, National Ocean Service, National Oceanic and Atmospheric Administration, Department of Commerce.

ACTION: Notice of public meeting and opportunity to comment.

SUMMARY: The National Oceanic and Atmospheric Administration (NOAA), Office for Coastal Management, will hold an in-person public meeting to solicit input on the performance evaluation of the Padilla Bay National Estuarine Research Reserve. NOAA also invites the public to submit written comments.

DATES: NOAA will hold an in-person public meeting at 5 p.m. Pacific Daylight Time (PDT) on Tuesday, September 10, 2024. NOAA may close the meeting 10 minutes after the conclusion of public testimony and after responding to any clarifying questions from hearing participants. NOAA will consider all relevant written comments received by Friday, September 20, 2024.

ADDRESSES: Comments may be submitted by one of the following methods:

• In-Person Public Meeting: Provide oral comments during the in-person public meeting on Tuesday, September 10, 2024 at 5 p.m. PDT at the Steven Center Conference Room at the Padilla Bay National Estuarine Research Reserve, 10441 Bayview Edison Road, Mount Vernon, WA 98273.

• Email: Send written comments to Michael Migliori, Evaluator, NOAA Office for Coastal Management, at czma.evaluations@noaa.gov. Include “Comments on Performance Evaluation of Padilla Bay National Estuarine Research Reserve” in the subject line. NOAA will accept anonymous comments; however, the written comments NOAA receives are considered part of the public record, and the entirety of the comment, including the name of the commenter, email address, attachments, and other supporting materials, will be publicly accessible. Sensitive personally identifiable information, such as account numbers and Social Security numbers, should not be included with the comments. Comments that are not related to the performance evaluation of the Padilla Bay National Estuarine Research Reserve or that contain profanity, vulgarity, threats, or other inappropriate language will not be considered.

FOR FURTHER INFORMATION CONTACT: Michael Migliori, Evaluator, NOAA Office for Coastal Management, by email at Michael.Migliori@noaa.gov or by phone at (443) 332-8936. Copies of the previous evaluation findings, reserve management plan, and reserve site profile may be viewed and downloaded at https://coast.noaa.gov/czm/evaluations/. A copy of the evaluation notification letter and most recent progress report may be obtained upon request by contacting Michael Migliori.

SUPPLEMENTARY INFORMATION: Section 315(f) of the Coastal Zone Management Act (CZMA) requires NOAA to conduct periodic evaluations of federally approved national estuarine research reserves. The evaluation process includes holding one or more public meetings, considering public comments, and consulting with interested Federal, State, and local agencies and members of the public. During the evaluation, NOAA will consider the extent to which the State of Washington has met the national objectives and has adhered to the management plan approved by the Secretary of Commerce, the requirements of section 315(b)(2) of the CZMA, and the terms of financial assistance under the CZMA. When the evaluation is complete, NOAA's Office for Coastal Management will place a notice in the Federal Register announcing the availability of the final evaluation findings.

Authority: 16 U.S.C. 1461.

Keelin Kuipers,
Deputy Director, Office for Coastal Management, National Ocean Service, National Oceanic and Atmospheric Administration.

[FR Doc. 2024-15021 Filed 7-8-24; 8:45 am]

BILLING CODE 3510-08-P